DEPARTMENT OF COMMERCE

International Trade Administration

[C-580-866]

Bottom Mount Combination Refrigerator-Freezers From the Republic of Korea: Postponement of Preliminary Determination in the Countervailing Duty Investigation

AGENCY: Import Administration, International Trade Administration, Department of Commerce.

FOR FURTHER INFORMATION CONTACT: Justin Neuman or Myrna Lobo, AD/CVD Operations, Office 6, Import Administration, International Trade Administration, U.S. Department of Commerce, 14th Street and Constitution Avenue, NW., Washington, DC 20230; telephone: (202) 482-0486 and (202) 482-2371, respectively.

SUPPLEMENTARY INFORMATION:

Background

On April 19, 2011, the Department of Commerce (the Department) initiated the countervailing duty investigation of bottom mount combination refrigerator-freezers from the Republic of Korea. See Bottom Mount Combination Refrigerator-Freezers From the Republic of Korea: Initiation of Countervailing Duty Investigation, 76 FR 23298 (April 26, 2011). Currently, the preliminary determination is due no later than June 23, 2011.

Postponement of Due Date for the Preliminary Determination

Section 703(b)(1) of the Tariff Act of 1930, as amended (the Act), requires the Department to issue the preliminary determination in a countervailing duty investigation within 65 days after the date on which the Department initiated the investigation. However, the Department may postpone making the preliminary determination until no later than 130 days after the date on which the administering authority initiated the investigation if, among other reasons, the petitioner makes a timely request for an extension pursuant to section 703(c)(1)(A) of the Act. In the instant investigation, the petitioner, Whirlpool Corporation, made a timely request on May 9, 2011, requesting a postponement of the preliminary countervailing duty determination to 130 days from the initiation date. See 19 CFR 351.205(e) and the petitioner's May 9, 2011, letter requesting postponement of the preliminary determination, which is available in the Central Records Unit, Room 7046 in the Department's main building.

The Department finds no compelling reason to deny the request. Therefore, pursuant to section 703(c)(1)(A) of the Act, we are extending the due date for the preliminary determination to no later than 130 days after the date on which this investigation was initiated, i.e., to August 27, 2011. However, August 27, 2011 falls on a Saturday. It is the Department's long-standing practice to make a determination on the next business day when the statutory deadline falls on a weekend, federal holiday, or any other day when the Department is closed. See Notice of Clarification: Application of “Next Business Day” Rule for Administrative Determination Deadlines Pursuant to the Tariff Act of 1930, As Amended, 70 FR 24533 (May 10, 2005). Accordingly, the Department will make its preliminary determination on August 29, 2011, the first business day after August 27, 2011.

This notice is issued and published pursuant to section 703(c)(2) of the Act and 19 CFR 351.205(f)(l).

Dated: May 26, 2011.
Ronald K. Lorentzen,
Deputy Assistant Secretary for Import Administration.

[FR Doc. 2011-13818 Filed 6-2-11; 8:45 am]

BILLING CODE 3510-DS-P